DEPARTMENT OF HEALTH AND HUMAN SERVICES

Food and Drug Administration

[Docket No. 1999N-1075] (formerly 99N-1075)

Quantitative Risk Assessment on the Public Health Impact of Vibrio parahaemolyticus in Raw Oysters; Notice of Public Meeting

AGENCY: Food and Drug Administration, HHS.

ACTION: Notice of public meeting.

The Food and Drug Administration (FDA) is announcing a public meeting to present the “Quantitative Risk Assessment on the Public Health Impact of Vibrio parahaemolyticus in Raw Oysters.” This public meeting is intended to provide clarification about the results of the risk assessment and information on how the risk assessment may be utilized. Stakeholders will have an opportunity to ask questions about the risk assessment. Questions may also be submitted in advance of the public meeting (see Contact section of this document). Elsewhere in this issue of the Federal Register, FDA is announcing the availability of the risk assessment that is being presented at this public meeting.

Date and Time: The meeting will be held on August 13, 2005, from 12 noon to 3 p.m.

Location: The meeting will be held at the Grand Hotel Marriot Resort, One Grand Blvd., Point Clear, AL 36564.

Contact: Melissa Ellwanger, Center for Food Safety and Applied Nutrition (HFS-417), Food and Drug Administration, 5100 Paint Branch Pkwy., College Park, MD 20740, 301-436-1401, FAX: 301-436-2599, e-mail: mellwang@cfsan.fda.gov.

Registration and Requests for Oral Presentation: Send registration information (including name, title, firm name, address, telephone, and fax number), and written materials to the contact person by August 10, 2005. Interested persons may present data, information, or views orally or in writing, on the issue. If you desire to make a formal oral presentation, you should notify the contact person before August 10, 2005, and be prepared to give a brief description of the general nature of the information you wish to present. Time allotted for each presentation may be limited.

If you need special accommodations due to a disability, please contact Melissa Ellwanger at least 7 days in advance of the meeting.

Transcripts: Transcripts of the meeting may be requested in writing from the Freedom of Information Office (HFI-35), Food and Drug Administration, 5600 Fishers Lane, rm. 12A-16, Rockville, MD 20857, approximately 15 working days after the meeting at a cost of 10 cents per page.

Dated: July 8, 2005.
Jeffrey Shuren,
Assistant Commissioner for Policy.

[FR Doc. 05-14294 Filed 7-18-05; 8:45 am]

BILLING CODE 4160-01-S